DEPARTMENT OF COMMERCE

International Trade Administration

[C-489-823]

Welded Line Pipe From the Republic of Turkey: Final Results of the Expedited First Sunset Review of the Countervailing Duty Order

AGENCY: Enforcement and Compliance, International Trade Administration, Department of Commerce.

SUMMARY: As a result of this expedited sunset review, the Department of Commerce (Commerce) finds that revocation of the countervailing duty order on welded line pipe from the Republic of Turkey (Turkey) would be likely to lead to continuation or recurrence of countervailable subsidies at the levels as indicated in the “Final Results of Sunset Review” section of this notice.

DATES: Applicable March 9, 2021.

FOR FURTHER INFORMATION CONTACT: Alex Wood, AD/CVD Operations, Office II, Enforcement and Compliance, International Trade Administration, U.S. Department of Commerce, 1401 Constitution Avenue NW, Washington, DC 20230; telephone: (202) 482-1959.

SUPPLEMENTARY INFORMATION:

Background

On December 1, 2015, Commerce published the countervailing duty order on welded line pipe from Turkey in the Federal Register.¹ On November 3, 2020, Commerce published the notice of initiation of the first five-year (sunset) review of the Order, pursuant to section 751(c) of the Tariff Act of 1930, as amended (the Act).² In November 2020, Commerce received notices of intent to participate from Axis Pipe and Tube, California Steel Industries, Tex-Tube Company, Welspun Tubular LLC, Maverick Tube Corporation, IPSCO Tubulars Inc., American Cast Iron Pipe Company (ACIPCO), and Stupp Corporation (collectively, domestic interested parties), within the deadline specified in 19 CFR 351.218(d)(1)(i).³ The domestic interested parties claimed interested party status under section 771(9)(C) of the Act as manufacturers or producers of the domestic like product.⁴

¹ See Welded Line Pipe from the Republic of Turkey: Countervailing Duty Order, 80 FR 75054 (December 1, 2015) (Order).

² See Initiation of Five-Year (Sunset) Reviews, 85 FR 69585 (November 3, 2020) (Notice of Initiation).

³ See Axis Pipe and Tube, California Steel Industries, Tex-Tube Company, Welspun Tubular LLC, and Wheatland Tube Company's Letter, “Notice of Intent to Participate in the First Five-Year Review of the Countervailing Duty Order on Certain Welded Line Pipe from Turkey,” dated November 13, 2020; Maverick Tube Corporation and IPSCO Tubulars Inc.'s Letter, “Notice of Intent to Participate in First Sunset Reviews of the Antidumping and Countervailing Duty Orders on Welded Line Pipe from Turkey,” dated November 16, 2020; and American Cast Iron Pipe Company and Stupp Corporation's Letter, “Welded Line Pipe from the Republic of Turkey: Notice of Intent to Participate in Sunset Review,” dated November 18, 2020.

⁴ See Domestic Interested Parties' Letter, “Welded Line Pipe from Turkey: Substantive Response of Domestic Producers to Commerce's Notice of Initiation of Five-Year (“Sunset”) Reviews,” dated December 3, 2020 (Domestic Interested Parties' Substantive Response) at 2.

On December 3, 2020, Commerce received an adequate substantive response to the Notice of Initiation from the domestic interested parties within the 30-day deadline specified in 19 CFR 351.218(d)(3)(i).⁵ Commerce received no substantive response from any respondent interested parties.

⁵ See Domestic Interested Parties' Substantive Response.

On December 23, 2020, Commerce notified the U.S. International Trade Commission that it did not receive an adequate substantive response from respondent interested parties.⁶ Accordingly, pursuant to section 751(c)(3)(B) of the Act and 19 CFR 351.218(e)(1)(ii)(C)(2), Commerce conducted an expedited (120-day) sunset review of the Order.

⁶ See Commerce's Letter, “Sunset Reviews for November 2020,” dated December 23, 2020.

Scope of the Order

The merchandise covered by the Order is circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of this investigation.

The welded line pipe that is subject to the Order is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of the Order is dispositive.

Analysis of Comments Received

All issues raised in this sunset review are addressed in the Issues and Decision Memorandum, including the likelihood of continuation or recurrence of countervailable subsidies and the net countervailable subsidy likely to prevail if the Order were revoked.⁷ The Issues and Decision Memorandum is a public document and is on file electronically via Enforcement and Compliance's Antidumping and Countervailing Duty Centralized Electronic Services System (ACCESS). ACCESS is available to registered users at http://access.trade.gov. In addition, a complete version of the Issues and Decision Memorandum can be accessed directly at https://enforcement.trade.gov/frn/index.html. The signed and electronic versions of the Issues and Decision Memorandum are identical in content. A list of the issues discussed in the decision memorandum is attached at the Appendix to this notice.

⁷ See Memorandum, “Issues and Decision Memorandum for the Expedited First Sunset Review of the Countervailing Duty Order on Welded Line Pipe from the Republic of Turkey,” dated concurrently with, and hereby adopted by, this notice (Issues and Decision Memorandum).

Final Results of Sunset Review

Pursuant to sections 751(c)(1) and 752(b) of the Act, Commerce determines that revocation of the Order would be likely to lead to continuation or recurrence of countervailable subsidies at the following rates:

Manufacturer/producer/exporter | Net countervailable subsidy (percent)
Borusan Istikbal Ticaret, Borusan Mannesmann Boru Sanayi ve Ticaret A.S., Borusan Mannesmann Boru Yatirim Holding A.S., and Borusan Holding A.S | 152.98
Toscelik Profil ve Sac Endustrisi A.S., Tosyali Demir Celik Sanayi A.S., Tosyali Dis Ticaret A.S., Tosyali Elektrik Enerjisi Toptan Satis Ith. Ihr. A.S., and Tosyali Holding A.S | 1.31
All Others | 1.31

Administrative Protective Order (APO)

This notice serves as the only reminder to parties subject to APO of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing the final results and notice in accordance with sections 751(c), 752(b), and 777(i)(1) of the Act.

Dated: March 2, 2021.
Christian Marsh,
Acting Assistant Secretary for Enforcement and Compliance.

Appendix

List of Topics Discussed in the Issues and Decision Memorandum

I. Summary

II. Background

III. Scope of the Order

IV. History of the Order

V. Legal Framework

VI. Discussion of the Issues

VII. Final Results of Review

VIII. Recommendation

[FR Doc. 2021-04862 Filed 3-8-21; 8:45 am]

BILLING CODE 3510-DS-P